DEPARTMENT OF THE INTERIOR

Bureau of Land Management

[F-19148-13, F-19148-14; AK-964-1410-KC-P]

Alaska Native Claims Selection

AGENCY: Bureau of Land Management, Interior.

ACTION: Notice of decision approving lands for conveyance.

SUMMARY: As required by 43 CFR 2650.7(d), notice is hereby given that an appealable decision approving the surface and subsurface estates in certain lands for conveyance pursuant to the Alaska Native Claims Settlement Act will be issued to Arctic Slope Regional Corporation. The lands are along the Colville River, Alaska, and are located in:

Lands Outside the National Petroleum Reserve In Alaska Umiat Meridian, Alaska

T. 1 S., R. 1 W.,

Secs. 16 to 21, inclusive.

Containing approximately 1,332 acres.

T. 1 S., R. 2 W.,

Secs. 23 to 28, inclusive;

Secs. 31 to 35, inclusive.

Containing approximately 2,266 acres.

T. 2 S., R. 2 W.,

Secs. 3 to 6, inclusive.

Containing approximately 1,624 acres.

T. 2 S., R. 3 W.,

Sec. 1;

Secs. 11 to 21, inclusive;

Sec. 30.

Containing approximately 4,017 acres.

T. 2 S., R. 4 W.,

Sec. 13;

Secs. 21 to 35, inclusive.

Containing approximately 3,984 acres.

T. 3 S., R. 4 W.,

Sec. 6.

Containing approximately 437 acres.

T. 2 S., R. 5 W.,

Secs. 35 and 36.

Containing approximately 110 acres.

T. 3 S., R. 5 W.,

Secs. 1, 2, and 3;

Secs. 7 to 12, inclusive;

Secs. 14 to 21, inclusive;

Sec. 30.

Containing approximately 6,014 acres.

T. 3 S., R. 6 W.,

Secs. 13, 24, 25, and 26;

Secs. 33, 34, and 35.

Containing approximately 802 acres.

T. 4 S., R. 6 W.,

Secs. 2 to 8, inclusive;

Secs. 17 and 18.

Containing approximately 2,651 acres.

T. 4 S., R. 7 W.,

Secs. 10 to 17, inclusive;

Secs. 19 to 23, inclusive;

Sec. 30.

Containing approximately 4,241 acres.

T. 4 S., R. 8 W.,

Secs. 22 to 29, inclusive;

Secs. 32 to 36, inclusive.

Containing approximately 3,368 acres.

T. 5 S., R. 8 W.,

Secs. 3, 5, 6, and 7.

Containing approximately 1,622 acres.

Aggregating approximately 32,468 acres.

Notice of the decision will also be published four times in the Arctic Sounder.

DATES: The time limits for filing an appeal are:

1. Any party claiming a property interest which is adversely affected by the decision shall have until June 15, 2009 to file an appeal.

2. Parties receiving service of the decision by certified mail shall have 30 days from the date of receipt to file an appeal.

Parties who do not file an appeal in accordance with the requirements of 43 CFR part 4, subpart E, shall be deemed to have waived their rights.

ADDRESSES: A copy of the decision may be obtained from: Bureau of Land Management, Alaska State Office, 222 West Seventh Avenue, #13, Anchorage, Alaska 99513-7504.

FOR FURTHER INFORMATION CONTACT: The Bureau of Land Management by phone at 907-271-5960, or by e-mail at ak.blm.conveyance@ak.blm.gov. Persons who use a telecommunication device (TTD) may call the Federal Information Relay Service (FIRS) at 1-800-877-8330, 24 hours a day, seven days a week, to contact the Bureau of Land Management.

Michael Bilancione,
Land Transfer Resolution Specialist, Land Transfer Adjudication I.

[FR Doc. E9-11382 Filed 5-14-09; 8:45 am]

BILLING CODE 4310-JA-P